DEPARTMENT OF COMMERCE

International Trade Administration

Notice of Allocation of Tariff Rate Quotas (TRQ) on the Import of Certain Cotton Woven Fabrics for Calendar Year 2009

AGENCY: Department of Commerce, International Trade Administration.

ACTION: Notice of allocation of 2009 cotton fabric tariff rate quota.

SUMMARY: The Department of Commerce (Department) has determined the allocation for Calendar Year 2009 of imports of certain cotton fabrics under tariff rate quotas established by Division B, Title IV of the Tax Relief and Health Care Act of 2006 (Public Law No. 109-432). The companies that are being provided an allocation are listed below.

FOR FURTHER INFORMATION CONTACT: Laurie Mease, Office of Textiles and Apparel, U.S. Department of Commerce, (202) 482-3400.

SUPPLEMENTARY INFORMATION:

BACKGROUND:

On December 20, 2006, President Bush signed into law the Tax Relief and Health Care Act of 2006 (Public Law No. 109-432) (“the Act“). Under Division C, Title IV, section 406(b)(1) of the Act, the Secretary of Commerce is required to allocate tariff rate quotas on the import of certain cotton woven fabrics through December 31, 2009. Section 406(b)(1) authorizes the Secretary of Commerce to issue licenses to eligible manufacturers under headings 9902.52.08 through 9902.52.19 of the Harmonized Tariff Schedule of the United States (HTS), specifying the restrictions under each such license on the quantity of cotton woven fabrics that may be entered each year on behalf of the manufacturer. Section 406(a)(1) of the Act created an annual tariff rate quota providing for temporary reductions through December 31, 2009 in the import duties of cotton woven fabrics suitable for making cotton shirts (new HTS headings 9902.52.08, 9902.52.09, 9902.52.10, 9902.52.11, 9902.52.12, 9902.52.13, 9902.52.14, 9902.52.15, 9902.52.16, 9902.52.17, 9902.52.18, and 9902.52.19). Section 406(a)(2) provides that the reduction in duty is limited to 85 percent of the total square meter equivalents of all imported woven fabrics of cotton containing 85 percent or more by weight cotton used by manufacturers in cutting and sewing men's and boys' cotton shirts in the United States and purchased by such manufacturers during calendar year 2000.

The Act requires that the tariff rate quotas be allocated to persons or entities who, during calendar year 2000, were manufacturers cutting and sewing men's and boys' cotton shirts in the United States from imported woven fabrics of cotton containing 85 percent or more by weight of cotton of the kind described in HTS 9902.52.08 through 9902.52.19 purchased by such manufacturer during calendar year 2000. On July 10, 2008, the Department published a final rule establishing procedures for allocating the TRQ (73 FR 39585, 15 CFR 336).

On September 25, 2008 the Department published a notice in the Federal Register (73 FR 55500) soliciting applications for an allocation of the 2009 tariff rate quotas with a closing date of October 27, 2008. The Department received timely applications from 7 firms. All applicants were determined eligible for an allocation. Most applicants submitted data on a business confidential basis. As allocations to firms were determined on the basis of this data, the Department considers individual firm allocations to be business confidential.

FIRMS THAT RECEIVED ALLOCATIONS: HTS headings 9902.52.08, 9902.52.09, 9902.52.10, 9902.52.11, 9902.52.12, 9902.52.13, 9902.52.14, 9902.52.15, 9902.52.16, 9902.52.17, 9902.52.18, and 9902.52.19, woven fabrics of cotton containing 85 percent or more by weight cotton, used by manufacturers in cutting and sewing men's and boys' cotton shirts in the United States.
Amount allocated: 3,116,090 square meters.
Companies Receiving Allocation:
The Hancock Company, DBA Gitman & Company - Ashland, PA
Individualized Shirt Company - Perth Amboy, NJ
Kenneth Gordon/IAG, Inc. - Franklin, TN
The Pickett Co., DBA Measure Up - Lafayette, TN
Retail Brand Alliance - Enfield, CT
Gambert Shirt - Newark, NJ
Maus & Hoffman - Fort Lauderdale, FL

Dated: January 7, 2009.
Janet E. Heinzen,
Acting Deputy Assistant Secretary for Textiles and Apparel.

[FR Doc. E9-627 Filed 1-13-09; 8:45 am]

BILLING CODE 3510-DS